DEPARTMENT OF AGRICULTURE

Rural Business—Cooperative Service

Notice of Funding Availability (NOFA) for Delta Health Care Services Grants

AGENCY: Rural Business—Cooperative Service, USDA.

ACTION: NOFA.

SUMMARY: Rural Business—Cooperative Service (RBS), an agency of the United States Department of Agriculture, announces the availability of grant funds through the Delta Health Care Services Grant Program. Pursuant to the 2012 Appropriations Act, $3,000,000 is available to be competitively awarded for the Delta Health Care Services Grant Program. The minimum grant amount is $50,000.

DATES: You must submit completed applications for grants according to the following deadlines:

• Paper copies must be postmarked and mailed, shipped, or sent overnight no later than May 28, 2013 to be eligible for grant funding. Late or incomplete applications will not be eligible for grant funding.

• Electronic copies must be received by May 28, 2013 to be eligible for grant funding. Late or incomplete applications will not be eligible for grant funding.

ADDRESSES: You may obtain application guides and materials for the Delta Health Care Services grants the following ways:

• The Internet at the RBS Cooperative Programs Web site: http://www.rurdev.usda.gov/bcp_deltahealthcare.html.

• You may also request application guides and materials from RBS by contacting, RBS Office of the Deputy Administrator, Cooperative Programs at (202) 690-1374 or your local State Office. A list of State Office contacts can be found at http://www.rurdev.usda.gov/StateOfficeAddresses.html.

Alabama

USDA Rural Development State Office, Sterling Centre, Suite 601, 4121 Carmichael Road, Montgomery, AL 36106-3683, (334) 279-3400/TDD (334) 279-3495

Arkansas

USDA Rural Development State Office, 700 West Capitol Avenue, Room 3416, Little Rock, AR 72201-3225, (501) 301-3200/TDD (501) 301-3279

Illinois

USDA Rural Development State Office, 2118 West Park Court, Suite A, Champaign, IL 61821, (217) 403-6200/TDD (217) 403-6240

Kentucky

USDA Rural Development State Office, 771 Corporate Drive, Suite 200, Lexington, KY 40503, (859) 224-7300/TDD (859) 224-7422

Louisiana

USDA Rural Development State Office, 3727 Government Street, Alexandria, LA 71302, (318) 473-7921/TDD (318) 473-7655

Mississippi

USDA Rural Development State Office, Federal Building, Suite 831, 100 West Capitol Street, Jackson, MS 39269, (601) 965-4316/TDD (601) 965-5850

Missouri

USDA Rural Development State Office, 601 Business Loop 70 West, Parkade Center, Suite 235, Columbia, MO 65203, (573) 876-0976/TDD (573) 876-9480

Tennessee

USDA Rural Development State Office, 3322 West End Avenue, Suite 300, Nashville, TN 37203-1084, (615) 783-1300

• You must submit either:

• Completed paper applications for Delta Health Care Services grants to Office of the Deputy Administrator, Cooperative Programs, Rural Business-Cooperative Service, U.S. Department of Agriculture, 1400 Independence Ave. SW., Room 4016, STOP 3250, Washington, DC 20250-3250, or

• Electronic grant applications at http://www.grants.gov/ (Grants.gov), following the instructions you find on that Web site.

FOR FURTHER INFORMATION CONTACT: Office of the Deputy Administrator, Cooperative Programs, Rural Business-Cooperative Programs, 1400 Independence Ave. SW., Room 4016, STOP 3250, Washington, DC 20250-3250; telephone: (202) 690-1374, fax: (202) 690-2724.

Visit the program Web site at http://www.rurdev.usda.gov/BCP_deltahealthcare.html for application assistance or contact your USDA Rural Development State Office at http://www.rurdev.usda.gov/recd_map.html. Applicants are encouraged to contact their State Offices in advance of the deadline to discuss their projects and ask any questions about the application process.

EO 13175 Consultations and Coordination With Indian Tribal Governments

To introduce tribes and tribal leaders in the Delta Region to this program USDA hosted a teleconference on December 7, 2010. USDA extended an invitation to Tribal Leaders of the six Federally recognized Tribes in Mississippi, Louisiana, and Alabama on November 30, 2010. Through this call USDA aimed to review, discuss, and open the door for consultation on this program, in case the tribes brought forward any unanticipated concerns regarding the draft NOFA provisions of the Delta Health Care Services Grant Program, authorized under Section 379G of the Consolidated Farm and Rural Development Act. Three of the six tribes participated on the teleconference on December 7, 2010. It was explained that eligible grant applicants are limited to consortiums or groups of regional institutions of higher education, academic health and research institutes, and economic development entities located in the Delta Region that have experience in addressing the health care issues in the region. It was also articulated that eligible consortiums may include participation with Indian Tribes. The Tribal Leaders did not express any perceived negative impact regarding the draft, and were given appropriate Rural Development contact information should they have any future concerns regarding the NOFA. Since that time Rural Development has not received any further suggestions, or request from tribes to consult on this program. As a result of the teleconference, and no further requests to consult on the program, USDA has assessed the impact of this NOFA on Indian Tribal Governments in the Delta Region, and has concluded that this NOFA will not negatively affect the Federally recognized Tribes in the region, or impose substantial direct compliance costs on Indian Tribal Governments, nor preempt tribal law.

Paperwork Reduction Act

The Paperwork Reduction Act requires Federal agencies to seek and obtain Office of Management and Budget (OMB) approval before undertaking a collection of information directed to ten or more persons. In accordance with the Paperwork Reduction Act of 1995 (44 U.S.C. Chapter 35), the agency conducted an analysis to determine the universe of respondents that could meet the eligibility requirements to apply for the Delta Health Care Services Grant Program. It was determined that the eligible number of entities in the Delta Region was fewer than nine and in accordance with 5 CFR 1320, no OMB approval is necessary at this time.

SUPPLEMENTARY INFORMATION:

Overview

Federal Agency: Rural Business—Cooperative Service (RBS).

Funding Opportunity Title: Delta Health Care Services Grant Program.

Announcement Type: Funding announcement.

Catalog of Federal Domestic Assistance (CFDA) Number: 10.874.

Dates: The due date for application submissions is May 28, 2013:

• Paper copies must be postmarked and mailed, shipped, or sent overnight no later than May 28, 2013 to be eligible for grant funding. Late or incomplete applications will not be eligible for grant funding.

• Electronic copies must be received by May 28, 2013 to be eligible for grant funding. Late or incomplete applications will not be eligible for grant funding.

I. Funding Opportunity

The Delta Health Care Services Grant Program is designed to provide financial assistance to address the continued unmet health needs in the Delta Region through cooperation among health care professionals, institutions of higher education, research institutions, and other individuals and entities in the Delta Region. Grant funds may be utilized for the development of health care cooperatives, health care services; health education programs; health care job training programs; and for the development and expansion of public health-related facilities in the Delta Region. Grants will be awarded to eligible entities in the Delta Region serving communities of no more than 50,000 inhabitants to help to address the long standing and unmet health needs of the region.

II. Definitions

The terms and conditions provided in this Notice are applicable to and for purposes of this Notice only.

Academic Health and Research Institute consists of a medical school, one or more other health profession schools or programs (such as allied health, dentistry, graduate studies, nursing, pharmacy, public health, veterinary medicine), and one or more owned or affiliated teaching hospitals or health systems.

Consortium means a group of at least three entities that are regional institutions of higher education, academic health and research institutes, health care cooperatives and economic development entities located in the Delta Region that have experience in addressing the health care issues in the region. At least one of the consortium members must be legally organized as an incorporated organization or other legal entity and have legal authority to contract with the Government.

Delta Region means the 252 counties and parishes within the states of Alabama, Arkansas, Illinois, Kentucky, Louisiana, Mississippi, Missouri, and Tennessee that are served by the Delta Regional Authority. (The Delta Region may be adjusted by future Federal statute.) To view the areas identified within the Delta Region visit http://www.dra.gov/about-us/eight-state-map.aspx.

Economic Development Entity means an entity that makes investments or conducts activities that primarily benefit low- and moderate-income individuals, low- and moderate-income areas, or other areas targeted by a governmental entity for redevelopment.

Institution of Higher Education means either a postsecondary (post-high school) educational institution that awards a bachelor's degree or provides not less than a 2-year program that is acceptable for full credit toward such a degree, or a postsecondary vocational institution that provides a program of training to prepare students for gainful employment in a recognized occupation.

Rural area means any area of the United States not included within (a) the boundaries of any incorporated or unincorporated city, village, or borough having a population in excess of 50,000 inhabitants and (b) any urbanized area contiguous and adjacent to a city or town described in clause (a).

RBS (referred to as the Agency) means Rural Business-Cooperative Service, an agency under the mission of Rural Development which is under the Unites States Department of Agriculture.

III. Award Information

Type of Award: Grant.

Total Funding: $3 million.

Maximum Award: N/A.

Minimum Award: $50,000.

Award documents specify the term of each award. The Agency will make awards and execute documents appropriate to the project prior to any advance of funds to successful applicants.

IV. Eligibility Information

An applicant must obtain a Dun and Bradstreet Data Universal Numbering System (DUNS) number (see Section IV.B.) and register in the System for Award Management (SAM), formerly Central Contractor Registry (CCR), prior to submitting an application. (See 2 CFR 25.200(b).) In addition, an applicant must maintain its registration in the SAM database during the time its application is active. Finally, an applicant must have the necessary processes and systems in place to comply with the reporting requirements in 2 CFR 170.200(b), as long as it is not exempted from reporting. Exemptions are identified at 2 CFR 170.110(b).

A. Eligible Applicants

Grants may be made to a Consortium, as defined in Section II of this Notice. The Consortium, itself, does not have to be legally organized. However, at least one member of the Consortium must be legally organized as an incorporated organization, or other legal entity, and have legal authority to contract with the Government. The Consortium must be located in the Delta Region and must include at least three entities that are regional institutions of higher education, academic health and research institutes, health care cooperatives or economic development entities.

As stated above, at least one member of the Consortium must have legal capacity and authority to carry out the purposes of the projects in its application, and to enter into contracts and to otherwise comply with applicable Federal statutes and regulations. A member of the Consortium may serve as the lead representative for the applicant.

The applicant must be able to demonstrate at least one year of experience in addressing the health care issues in the Delta Region.

Individuals are not eligible to apply for Delta Health Care Services Grant Program financial assistance directly.

B. Cost Sharing or Matching

Matching funds are not required. The Agency will accept other contributions, but these funds will not be factored into the scoring criteria.

C. Other Eligibility Requirements

The project must serve, and grant funds must be expended in the Delta Region, as defined in this Notice. However, the applicant need not propose to serve the entire Delta Regional Authority area.

Project funds must be used to develop health care cooperatives, health care services, health education programs, health care job training programs; or for the development and expansion of public health-related facilities in the Delta Region through increased resources, increased service area coverage or major health system reorganization, to address longstanding and unmet health needs of the region.

In accordance with Section 704 of General Provisions set forth in the Agriculture, Rural Development, Food and Drug Administration, and Related Agencies Appropriations Act, 2012, the total amount for salaries and wages, administrative expenses, and recurring operating costs may not exceed 10 percent of the grant.

Awards made under this Notice are subject to the provisions contained in the Agriculture, Rural Development, Food and Drug Administration, and Related Agencies Appropriations Act, 2012, P.L. No. 112-55, Division A sections 738 and 739 regarding corporate felony convictions and corporate federal tax delinquencies. You must provide representation as to whether your organization or any officers or agents of your organization has or has not been convicted of a felony criminal violation under Federal or State law in the 24 months preceding the date of application. In addition, you must provide representation as to whether your organization has or does not have any unpaid Federal tax liability that has been assessed, for which all judicial and administrative remedies have been exhausted or have lapsed, and that is not being paid in a timely manner pursuant to an agreement with the authority responsible for collecting the tax liability. To comply with these provisions, all applicants must complete paragraph (A) of this representation, and all corporate applicants also must complete paragraphs (B) and (C) of this representation:

(A) Applicant ______ [insert applicant name] is __ is not ___ (check one) and entity that has filed articles of incorporation in one of the fifty states, the District of Columbia, or the various territories of the United States including American Samoa. Federated States of Micronesia, Guam, Midway Islands, Northern Mariana Islands, Puerto Rico, Republic of Palau, Republic of the Marshall Islands, U.S. Virgin Islands.

(B) Applicant______ [insert applicant name] has ___ has not ___ (check one) been convicted of a felony criminal violation under Federal or state law in the 24 months preceding the date of application. Applicant has ___ has not ___ (check one) had any officer or agent of the Applicant convicted of a felony criminal violation for actions taken on behalf of the Applicant under Federal or State law in the 24 months preceding the date of the signature on the pre-application.

(C) Applicant ______ [insert applicant name] has __ does not have ___ (check one) any unpaid Federal tax liability that has been assessed, for which all judicial and administrative remedies have been exhausted or have lapsed, and that is not being paid in a timely manner pursuant to an agreement with the authority responsible for collecting the tax liability.

If you have an existing Delta Health Care Grant award, you must be performing satisfactorily to be considered eligible for a new award. Satisfactory performance includes, but is not limited to, being up-to-date on all financial and performance reports and being current on all tasks as approved in the work plan. The Agency will consider a one-time request to extend the period for up to one year during which grant funding is available.

D. Completeness Eligibility

Your application will not be considered for funding if it does not provide sufficient information to determine eligibility or is missing required elements. In particular, you must include a project budget that identifies each task to be performed, along with the time period of performance for each task, and the amounts of grant funds and other contributions needed for each task.

V. Application and Submission Information

A. Where To Get Application Information

The application guide and copies of necessary forms for the Delta Health Care Services Grant Program are available from these sources:

• The Internet at http://www.rurdev.usda.gov/bcp_deltahealthcare.html

• http://www.grants.gov, or,

• For paper copies of these materials: call (202) 690-1374.

B. How and Where To Submit an Application

You may file an application in either paper or electronic format. To submit your application electronically you must use the Grants.gov Web site at http://www.grants.gov. You may not submit an application electronically in any way other than through Grants.gov. Fax or email applications will not be accepted.

Whether you file a paper or an electronic application, you will need a DUNS number.

1. DUNS Number.

As required by the OMB, all applicants for grants must supply a Dun and Bradstreet Data Universal Numbering System (DUNS) number when applying. The Standard Form 424 (SF-424) contains a field for you to use when supplying your DUNS number. A DUNS number can be obtained at no cost by visiting http://fedgov.dnb.com/webform or calling toll-free (866) 705-5711.

2. System for Award Management (SAM).

(a) In accordance with 2 CFR part 25, applicants, whether applying electronically or by paper, must be registered in SAM prior to submitting an application. Applicants may register with SAM at https://www.sam.gov or by calling 1-(866) 606-8220. Completing the SAM registration process takes up to five business days, and applicants are strongly encouraged to begin the process well in advance of the deadline specified in this Notice.

(b) The SAM registration must remain active, with current information, at all times during which an entity has an application under consideration by an agency or has an active Federal Award. To remain registered in the SAM database after the initial registration, the applicant is required to review and update, on an annual basis from the date of initial registration or subsequent updates, its information in the SAM database to ensure it is current, accurate and complete.

For paper applications, send or deliver the applications by the U.S. Postal Service (USPS) or courier delivery services to the RBS receipt point set forth below. The Agency will not accept applications by fax or email. Original paper application (no stamped, photocopied, or initialed signatures) and one copy must be postmarked by May 28, 2013, to the following address:

Office of the Deputy Administrator, Cooperative Programs, Rural Business-Cooperative Service, 1400 Independence Avenue SW., STOP 3250, Room 4016, Washington, DC 20250-3250.

C. Submission Date and Time

Application Deadline date: [May 28, 2013.

Explanation of Deadlines: Complete paper applications must be postmarked by May 28, 2013. Electronic applications submitted through Grants.gov will be accepted by the system through midnight eastern time on the deadline date.

D. What constitutes a complete application?

1. Detailed information on each item required can be found in the Delta Health Care Services Grant Program application guide. The program's application guide provides specific guidance on each of the items listed and also provides all necessary forms and sample worksheets.

2. Applications should be prepared in conformance with applicable USDA regulations including 7 CFR parts 3015, 3016, and 3019. A completed application must include the following:

a. An Application for Federal Assistance. A completed SF 424.

b. Evidence of eligibility. Evidence of the applicant's eligibility to apply under this Notice, demonstrating that the applicant is a consortium as defined in this Notice.

c. A project abstract. A summary not to exceed one Web page, suitable for dissemination to the public and to Congress.

d. Executive summary. An executive summary of the project describing its purpose, not to exceed two Web pages.

e. Scoring documentation. The grant applicant must address and provide documentation on how it meets each of the scoring criteria, specifically the rurality of the project area and communities served, the community needs and benefits derived from the project, and project management and organization capability.

f. Service area maps. Maps with sufficient detail to show the area that will benefit from the proposed facilities and services, and the location of facilities purchased with grant funds.

g. Scope of work. The scope of work must include (1) the specific activities and services, such as programs and training, to be performed under the project, (2) the facilities to be purchased or constructed, (3) who will carry out the activities and services, (4) specific time frames for completion and (5) documentation regarding how the applicant solicited input for the project from local governments, public health care providers, and other entities in the Delta Region.

h. Budget. The applicant must provide a budget showing the line item costs for all capital and operating expenditures eligible for the grant funds, and other sources of funds necessary to complete the project.

i. Financial information and sustainability. The applicant must provide current financial statements and a narrative description demonstrating sustainability of the project, all of which show sufficient resources and expertise to undertake and complete the project and how the project will be sustained following completion.

j. Statement of experience. The applicant must provide a written narrative describing its demonstrated capability and experience in addressing the health care issues in the Delta Region and in managing and operating a project similar to the proposed project.

k. Evidence of legal authority and existence. At least one member of the Consortium must provide evidence of its legal existence and authority to enter into a grant agreement with Rural Business-Cooperative Service and perform the activities proposed under the grant application.

l. Compliance with other Federal statutes. The applicant must provide evidence or certification that it is in compliance with all applicable Federal statutes and regulations, including, but not limited to the following (sample certifications are provided in the application guide.):

(1) Equal Opportunity and Nondiscrimination;

(2) Form AD-1047, “Certification Regarding Debarment, Suspension; and Other Responsibility Matters—Primary Covered Transactions”;

(3) Form AD-1048, “Certification Regarding Debarment, Suspension, Ineligibility and Voluntary Exclusion—Lower Tier Covered Transactions”;

(4) Form AD-1049, “Certification Regarding a Drug-Free Workplace Requirement (Grants)”;

(5) Lobbying for Contracts, Grants, Loans, and Cooperative Agreements (31 U.S.C. 1352).

m. Environmental impact and historic preservation. The applicant must provide details of the project's impact on the environment and historic preservation, and comply with 7 CFR Part 1940, which contains the Agency's policies and procedures for implementing a variety of Federal statutes, regulations, and executive orders generally pertaining to the protection of the quality of the human environment. This must be contained in a separate section entitled “Environmental Impact of the Project” and must include the Environmental Questionnaire/Certification describing the impact of the project. The Environmental Questionnaire/Certification is available on the RBS Cooperative Programs Web site at: http://www.rurdev.usda.gov/bcp_deltahealthcare.html. Submission of the Environmental Questionnaire/Certification alone does not constitute compliance with 7 CFR part 1940.

n. Acknowledgment from Consortiums. Each application must include an acknowledgement from each member of the Consortium that it is a member of the Consortium. This acknowledgement must be on each entity's letterhead and signed by an authorized representative of the entity.

VI. Application Review Information

A. Criteria

1. Grant applications are scored competitively and subject to the criteria listed below.

2. Grant application scoring criteria are detailed in the Delta Health Care Services Grant Application Guide. There are three criteria that when totaled together can add up to a total of 100 points, broken down as follows:

a. The rurality of the Project area and communities served. (up to 15 points);

b. The Community Needs and Benefits Derived from the project. (up to 45 points); and

c. The Project Management and Organization capability. (up to 40 points).

B. Grant Review Standards

1. All applications for grants must be delivered to RBS at the address specified in this Notice, or submitted electronically to http://www.grants.gov/ (Grants.gov) to be eligible for funding. The Agency will review each application for conformance with the provisions of this Notice. The Agency may contact the applicant for additional information or clarification.

2. We will review each application to determine if it is eligible for assistance based on the requirements of this Notice as well as other applicable Federal regulations.

3. Applications conforming with this Notice will be evaluated competitively by the Agency, and will be awarded points as described in the Delta Health Care Services Grant Application Guide. Applications will be ranked and grants awarded in rank order until all grant funds are expended.

C. Scoring Guidelines

1. The applicant's rurality calculation will be checked and, if necessary, corrected by the Agency.

2. The Community Needs and Benefits derived from the project score will be determined by the Agency based on information presented in the application. The Community Needs and Benefits score is a subjective score based on the reviewer's assessment of the supporting arguments made in the application. The score aims to assess how the project's purpose and goals benefit the residents in the Delta Region.

3. The Project Management and Organization Capability score will be determined by the Agency based on information presented in the application. The Agency will evaluate the applicant's experience, past performance, and accomplishments addressing health care issues to ensure effective project implementation.

D. Selection Process

Grant applications are ranked by final score. The Agency selects applications based on those rankings, subject to availability of funds. Rural Development has the authority to limit the number of applications selected in any one state, or from any applicant.

VII. Award Administration Information

A. Award Notices

The Agency recognizes that each funded project is unique, and therefore may attach conditions to different projects' award documents. The Agency generally notifies applicants whose projects are selected for awards by faxing an award letter. The Agency follows the award letter with a grant agreement that contains all the terms and conditions for the grant. An applicant must execute and return the grant agreement, accompanied by any additional items required by the grant agreement. If your application is not successful, you will receive notification, including mediation procedures and appeal rights, by mail.

All adverse determinations regarding applicant eligibility and the awarding of points as part of the selection process are appealable (see 7 CFR part 11). Instructions on the appeal process will be provided at the time an applicant is notified of the adverse decision.

B. Administrative and National Policy Requirements

All recipients of Federal financial assistance are required to comply with the Federal Funding Accountability and Transparency Act of 2006 and must report information about sub-awards and executive compensation (see 2 CFR Part 170). These recipients must also maintain their registration in the SAM database as long as their grants are active. These regulations may be obtained at http://www.gpoaccess.gov/cfr/index.html.

The following additional requirements apply to grantees selected for this program:

• Agency-approved Grant Agreement.

• Letter of Conditions.

• Form RD 1940-1, “Request for Obligation of Funds.”

• Form RD 1942-46, “Letter of Intent to Meet Conditions.”

• Form RD 400-4, “Assurance Agreement.”

C. Performance Reporting

All recipients of Delta Health Care Services Grant Program financial assistance must provide quarterly performance activity reports to the Agency until the project is complete and the funds are expended. A final performance report is also required; the final report may serve as the last annual report. The final report must include an evaluation of the success of the project.

D. Recipient and Subrecipient Reporting

The applicant must have the necessary processes and systems in place to comply with the reporting requirements for first-tier sub-awards and executive compensation under the Federal Funding Accountability and Transparency Act of 2006 in the event the applicant receives funding unless such applicant is exempt from such reporting requirements pursuant to 2 CFR Part 170, § 170.110(b). The reporting requirements under the Transparency Act pursuant to 2 CFR part 170 are as follows:

1. First Tier Sub-Awards of $25,000 or more in non-Recovery Act funds (unless they are exempt under 2 CFR Part 170) must be reported by the Recipient to http://www.fsrs.gov no later than the end of the month following the month the obligation was made.

2. The Total Compensation of the Recipient's Executives (five most highly compensated executives) must be reported by the Recipient (if the Recipient meets the criteria under 2 CFR Part 170) to http://www.sam.gov by the end of the month following the month in which the award was made.

3. The Total Compensation of the Subrecipient's Executives (five most highly compensated executives) must be reported by the Subrecipient (if the Subrecipient meets the criteria under 2 CFR Part 170) to the Recipient by the end of the month following the month in which the sub-award was made.

Further details regarding these requirements can be obtained at http://www.gpoaccess.gov/cfr/index.html.

VIII. Agency Contacts

A. Web site: http://www.rurdev.usda.gov/bcp_deltahealthcare.html. The Web site maintains up-to-date resources and contact information for the Delta Health Care Services Grant Program.

B. Phone: (202) 690-1374.

C. Fax: (202) 690-2724.

D. Main point of contact: Deputy Administrator, Cooperative Programs, RBS.

IX. Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's Target Center at (202) 720-2600 (voice and TDD).

To file a complaint of discrimination, write to USDA, Assistant Secretary for Civil Rights, Office of the Assistant Secretary for Civil Rights, 1400 Independence Avenue SW., Stop 9410, Washington, DC 20250-9410, or call toll-free at (866) 632-9992 (English) or (800) 877-8339 (TDD) or (866) 733-8642 (English Federal-relay) or (800) 845-6136 (Spanish Federal-relay). USDA is an equal opportunity provider and employer.

Dated: February 6, 2013.
Lillian Salerno,
Acting Administrator, Rural Business—Cooperative Programs.

[FR Doc. 2013-06896 Filed 3-25-13; 8:45 am]

BILLING CODE 3410-XY-P